DEPARTMENT OF AGRICULTURE

Rural Utilities Service

Rural Broadband Access Loans and Loan Guarantees Program

AGENCY: Rural Utilities Service, USDA.

ACTION: Notice of Solicitation of Applications (NOSA).

SUMMARY: The Rural Utilities Service (RUS), an Agency of the United States Department of Agriculture (USDA), announces that it is accepting applications for fiscal year (FY) 2018 for the Rural Broadband Access Loans and Loan Guarantees Program (the Broadband Program). RUS will publish on its website https://www.rd.usda.gov/newsroom/notices-solicitation-applications-nosas the amount of funding received through the final appropriations act.

Since the passage of the Agricultural Act of 2014 (2014 Farm Bill), RUS has only accepted applications according to discrete application windows as identified in notices published in the Federal Register. However, based on a review of the applications submitted since the implementation of the 2014 Farm Bill, RUS has determined that the use of application windows has not effectively supported the Agency's mission to finance improved broadband service in rural areas. As a result, RUS is accepting applications on a rolling basis throughout FY 2018. This will give RUS the ability to request additional information and modifications to a submitted application whenever necessary.

Applications will be processed on a first come, first served basis. Every ninety (90) days, RUS will conduct an evaluation of the submitted applications. During the evaluation period, applications will be ranked based on the percentage of unserved households that the applicant proposes to serve. RUS anticipates that it will conduct at least two evaluation periods for FY 2018. Because the Agency will receive applications throughout the fiscal year, subsequent evaluation periods can alter the ranking of applications.

In addition to announcing its acceptance of FY 2018 applications, RUS revises the minimum and maximum amounts for broadband loans for the fiscal year.

DATES: Applications under this NOSA will be accepted immediately through September 30, 2018. RUS will process loan applications as they are received.

Applications can only be submitted online through the RD Apply website at https://www.rd.usda.gov/programs-services/rd-apply through September 30, 2018.

FOR FURTHER INFORMATION CONTACT: For further information contact Shawn Arner, Deputy Assistant Administrator, Loan Origination and Approval Division, Rural Utilities Service, Room 2844, STOP 1597, 1400 Independence Avenue SW, Washington, DC 20250-1597, Telephone: (202) 720-0800, or email: shawn.arner@wdc.usda.gov.

SUPPLEMENTARY INFORMATION:

General Information

The Rural Broadband Access Loan and Loan Guarantee Program (the “Broadband Program”) is authorized by the Rural Electrification Act (7 U.S.C. 901 et seq.), as amended by the Agricultural Act of 2014 (Pub. L. 113-79), also referred to as the 2014 Farm Bill.

During FY 2018, loans will be made available for the construction, improvement, and acquisition of facilities and equipment that will provide service at the broadband lending speed in eligible rural areas. Applications are subject to the requirements of 7 CFR part 1738.

Application Assistance

RUS offers pre-application assistance, in which National Office staff and the assigned General Field Representative review the draft application, provide detailed comments, and identify areas where an application is not meeting eligibility requirements for funding. The online application system allows RUS staff to assist an applicant with every part of an application as it is being developed. Once the application is formally submitted, the online system will timestamp the submitted version and establish the application's place in the processing queue.

Based on the order in which the applications are received, RUS will review the application for completeness. The applicant may be asked for additional information to clarify aspects of an otherwise complete application or to assist the Agency in the underwriting process. If the application is determined to be complete, RUS will review the package for eligibility and technical and financial feasibility, in accordance with 7 CFR 1738. If an application is ultimately found to be incomplete or inadequate, a detailed explanation will be provided to the applicant.

To further assist in the preparation of applications, an application guide is available online at: https://www.rd.usda.gov/programs-services/farm-bill-broadband-loans-loan-guarantees. An application guide may also be requested from the RUS contact listed in the FOR FURTHER INFORMATION CONTACT section of this notice.

Application requirements: All requirements for submission of an application under the Broadband Program are subject to 7 CFR part 1738.

Application Materials/Submission: Applications must be submitted through the Agency's online application system located at https://www.rd.usda.gov/programs-services/rd-apply. All materials required for completing an application are included in the online system.

Minimum and Maximum Loan Amounts

Loans under this authority will not be made for less than $100,000. The maximum loan amount that will be considered for FY 2018 is $25,000,000.

Required Definitions for Broadband Program Regulation

The regulation for the Broadband Program requires that certain definitions affecting eligibility be revised and published from time to time by the Agency in the Federal Register. For the purposes of this NOSA, the Agency is revising the definitions of Broadband Service and Broadband Lending Speed.

Broadband Service is determined to exist if customers are able to access a minimum rate-of-data transmission of twenty-five (25) megabits downstream and three (3) megabits upstream for both mobile and fixed service. This rate is used to determine whether an area is eligible for funding.

Broadband Lending Speed is the minimum rate-of-data transmission that applicants must propose to offer the customer. The Broadband Lending Speed is twenty-five (25) megabits downstream and three (3) megabits upstream for both mobile and fixed service.

Priority for Approving Loan Applications

Applications for FY 2018 will be accepted from the publication date of this NOSA through September 30, 2018. Although review of applications will begin as they are submitted, all applications will be evaluated and ranked every 90 days based on the percentage of unserved households in the proposed funded service area. Subject to available funding, eligible applications that propose to serve a higher percentage of unserved households will receive funding offers before other eligible applications that propose to serve a lower percentage of unserved households. The amount available will be published on the Agency web page once all budgetary allocations have been completed.

Loan offers are limited to the funds available at the time of the Agency's decision to approve an application.

Applications will not be accepted after September 30, 2018, until a new application opportunity has been opened with the publication of an additional NOSA in the Federal Register.

Paperwork Reduction Act

In accordance with the Paperwork Reduction Act of 1995, the information collection requirements associated with Broadband loans, as covered in this NOSA, have been approved by the Office of Management and Budget (OMB) under OMB Control Number 0572-0130.

USDA Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by: (1) Mail: U.S. Department of Agriculture, Office of the Assistant Secretary for Civil Rights, 1400 Independence Avenue SW, Washington, DC 20250-9410, (2) Fax: (202) 690-7442; or (3) Email: program.intake@usda.gov.

USDA is an equal opportunity provider, employer, and lender.

Dated: March 22, 2018.
Christopher A. McLean,
Acting Administrator, Rural Utilities Service.

[FR Doc. 2018-06175 Filed 3-27-18; 8:45 am]

BILLING CODE P